DEPARTMENT OF COMMERCE

International Trade Administration

(A-533-840)

Certain Frozen Warmwater Shrimp from India: Partial Rescission of Antidumping Duty Administrative Review

AGENCY: Import Administration, International Trade Administration, Department of Commerce.

SUMMARY: The Department of Commerce (the Department) is rescinding the administrative review of the antidumping duty order on certain frozen warmwater shrimp from India for the period February 1, 2007, through January 31, 2008, for 166 companies, based on: 1) timely withdrawals of the review requests; 2) confirmed statements of no shipments during the period of review (POR); 3) a mistaken initiation; and 4) multiple addresses.

EFFECTIVE DATE: December 19, 2008.

FOR FURTHER INFORMATION CONTACT: Elizabeth Eastwood, AD/CVD Operations, Office 2, Import Administration, International Trade Administration, U.S. Department of Commerce, 14th Street and Constitution Avenue, NW, Washington, DC 20230; telephone: (202) 482-3874.

SUPPLEMENTARY INFORMATION:

Background

On February 4, 2008, the Department published in the Federal Register a notice of opportunity to request an administrative review of the antidumping duty order on certain frozen warmwater shrimp from India for the period February 1, 2007, through January 31, 2008. See Antidumping or Countervailing Duty Order, Finding, or Suspended Investigation; Opportunity To Request Administrative Review, 73 FR 6477 (Feb. 4, 2008). Between February 22, 2008, and February 29, 2008, in accordance with 19 CFR 351.213(b)(2), certain Indian producers and exporters requested a review of this antidumping duty order. In addition, on February 29, 2008, the petitioner¹ also requested an administrative review for numerous Indian exporters of subject merchandise, and the Louisiana Shrimp Association requested an administrative review for two Indian producers/exporters of subject merchandise, in accordance with 19 CFR 351.213(b)(1).

¹ The petitioner in this proceeding is the Ad Hoc Shrimp Trade Action Committee.

In April 2008, the Department initiated an administrative review for 336 companies. These companies are listed in the Department's notice of initiation. See Certain Frozen Warmwater Shrimp from Brazil, Ecuador, India and Thailand: Notice of Initiation of Administrative Reviews, 73 FR 18754, 18757-18762 (Apr. 7, 2008) (Notice of Initiation).

In April and May 2008, the Department received statements from 18 companies that indicated that they had no shipments of subject merchandise to the United States during the POR. Also, the Department received clarified information regarding mailing addresses for several companies.

On July 7, 2008, in accordance with 19 CFR 351.213(d)(1), the petitioner withdrew its request for review for 144 companies.

On October 16, 2008, the Department issued a memorandum indicating that it intended to rescind the administrative review with respect to 166 respondent companies, and it invited comments on this action from interested parties. See the October 16, 2008 memorandum to the file from Elizabeth Eastwood, titled “Intent to Rescind in Part the 2007-2008 Antidumping Duty Administrative Review on Frozen Warmwater Shrimp from India” (Intent to Rescind Memorandum). On October 23, 2008, and November 6, 2008, the Department received comments from 32 U.S. producers opposing the rescission with respect to the 144 companies for which the petitioner withdrew its review request. On October 30, 2008, the petitioner responded to the comments filed on October 23, 2008.

Partial Rescission of Review

As noted above, the petitioner withdrew its requests for an administrative review for each of the following companies within the time limits set forth in 19 CFR 351.213(d)(1):

1) A.S. Marine Industries Pvt Ltd.

2) Adani Exports Ltd

3) Aditya Udyog

4) Agri Marine Exports Ltd.

5) AL Mustafa Exp & Imp

6) Alapatt Marine Exports

7) All Seas Marine P. Ltd.

8) Alsa Marine & Harvests Ltd.

9) Ameena Enterprises

10) Amison Foods Ltd.

11) Amison Seafoods Ltd.

12) Anjani Marine Traders

13) Aqua Star Marine Foods

14) Arsha Seafood Exports Pvt. Ltd.

15) ASF Seafoods

16) Ashwini Frozen Foods

17) Aswin Associates

18) Baby Marine (Eastern) Exports

19) Baby Marine Exports

20) Baby Marine Products

21) Balaji Seafood Exports I Ltd.

22) Baraka Overseas Traders

23) Bell Foods (Marine Division)

24) Bharat Seafoods

25) Bhisti Exports

26) Bilal Fish Suppliers

27) Capital Freezing Complex

28) Cham Exports Ltd.

29) Cham Ocean Treasures Co., Ltd.

30) Cham Trading Organization

31) Chand International

32) Cherukattu Industries (Marine Div.)

33) Danda Fisheries

34) Dariapur Aquatic Pvt. Ltd.

35) Deepmala Marine Exports

36) Dhanamjaya Impex P. Ltd.

37) Dorothy Foods

38) El-Te Marine Products

39) Excel Ice Services/Chirag Int'l

40) Firoz & Company

41) Freeze Engineering Industries (Pvt. Ltd.)

42) Gajula Exim P. Ltd.

43) Gausia Cold Storage P. Ltd.

44) Global Sea Foods & Hotel Ltd.

45) Goan Bounty

46) Gold Farm Foods (P) Ltd.

47) Golden Star Cold Storage

48) Gopal Seafoods

49) Gtc Global Ltd.

50) HA & R Enterprises

51) Hanswati Exports P. Ltd.

52) HMG Industries Ltd.

53) Honest Frozen Food Company

54) India CMS Adani Exports

55) India Seafoods

56) Indian Seafood Corporation

57) Interfish

58) InterSea Exports Corporation

59) J R K Seafoods Pvt. Ltd.

60) Kadalkanny Frozen Foods

61) Kaushalya Aqua Marine Product Exports Pvt. Ltd.

62) Keshodwala Foods

63) Key Foods

64) King Fish Industries

65) Konkan Fisheries Pvt. Ltd.

66) Lakshmi Marine Products

67) Lansea Foods Pvt. Ltd.

68) Laxmi Narayan Exports

69) Lotus Sea Farms

70) M K Exports

71) M. R. H. Trading Company

72) Malabar Marine Exports

73) Mamta Cold Storage

74) Marina Marine Exports

75) Marine Food Packers

76) Miki Exports International

77) Mumbai Kamgar MGSM Ltd.

78) Naik Ice & Cold Storage

79) Nas Fisheries Pvt. Ltd.

80) National Seafoods Company

81) National Steel

82) National Steel & Agro Ind.

83) N.C. Das & Company

84) New Royal Frozen Foods

85) Noble Aqua Pvt. Ltd.

86) Nsil Exports

87) Omsons Marines Ltd.

88) Padmaja Exports

89) Partytime Ice Pvt. Ltd.

90) Philips Foods India Pvt. Ltd.

91) Premier Exports International

92) Premier Marine Foods

93) R K Ice & Cold Storage

94) Rahul Foods (GOA)

95) Rahul International

96) Raj International

97) Ramalmgeswara Proteins & Foods Ltd.

98) Rameshwar Cold Storage

99) Ravi Frozen Foods Ltd.

100) Regent Marine Industries

101) Relish Foods

102) R F. Exports

103) Royal Link Exports

104) Rubian Exports

105) Ruby Marine Foods

106) Ruchi Worldwide

107) S K Exports (P) Ltd.

108) SS International

109) Sabri Food Products

110) Sagar Samrat Seafoods

111) Salet Seafoods Pvt Ltd.

112) Samrat Middle East Exports (P) Ltd.

113) Sarveshwari Ice & Cold Storage P Ltd.

114) Satyam Marine Exports

115) Sea Rose Marines (P) Ltd.

116) Sealand Fisheries Ltd.

117) Seaperl Industries

118) Sharat Industries Ltd.

119) Shimpo Exports

120) Shipper Exporter National Steel

121) Siddiq Seafoods

122) Skyfish

123) SLS Exports Pvt. Ltd.

124) Sonia Fisheries

125) Sourab

126) Sreevas Export Enterprises

127) Sri Sidhi Freezers & Exporters Pvt. Ltd.

128) Star Fish Exports

129) Supreme Exports

130) The Canning Industries (Cochin) Ltd.

131) Tony Harris Seafoods Ltd.

132) Tri-Tee Seafood Company

133) Tri Marine Foods Pvt. Ltd.

134) Trinity Exports

135) Ulka Seafoods (P) Ltd.

136) Uniroyal Marine Exports Ltd.

137) Upasana Exports

138) V Marine Exports

139) Vaibhav Sea Foods

140) Varnita Cold Storage

141) Veraval Marines & Chemicals P Ltd.

142) Vijayalaxmi Seafoods

143) Winner Seafoods

144) Z A Food Products

Pursuant to 19 CFR 351.213(d)(1), the Secretary will rescind an administrative review if a party that requested a review withdraws the request within 90 days of the date of publication of the notice of initiation. Therefore, because all requests for administrative reviews were timely withdrawn for 143 of the companies listed above, in accordance with 19 CFR 351.213(d)(1), we are rescinding this review with regard to these companies. However, with regard to the 144th company, Kadalkanny Frozen Foods, the review cannot be rescinded because there is an outstanding request for review for this company, which was submitted by the company itself.

In addition, in accordance with 19 CFR 351.213(d)(3), we are rescinding the review with respect to the following 14 companies because these companies reported no shipments of subject merchandise during the POR:

1) Capithan Exporting Co.

2) Cochin Frozen Foods Export Pvt. Ltd.

3) C P Aquaculture (India) Ltd.

4) G. KS Business Associates Pvt. Ltd.

5) K V Marine Exports

6) L.G Seafoods

7) Lewis Natural Foods Ltd.

8) Lourde Exports

9) Meenaxi Fisheries Pvt. Ltd.

10) Naik Seafoods Ltd.

11) Sanchita Marine Products P Ltd.

12) Sterling Foods

13) Triveni Fisheries P Ltd.

14) Varnita Cold Storage

We reviewed U.S. Customs and Border Protection (CBP) data and confirmed that there were no entries of subject merchandise from any of these companies. Consequently, in accordance with 19 CFR 351.213(d)(3) and consistent with our practice, we are rescinding our review for the companies listed above. See, e.g., Certain Steel Concrete Reinforcing Bars From Turkey; Final Results and Rescission of Antidumping Duty Administrative Review in Part, 71 FR 65082, 65083 (Nov. 7, 2006) (Rebar from Turkey); see also Certain Frozen Warmwater Shrimp From India; Partial Rescission of Antidumping Duty Administrative Review, 71 FR 41419 (July 21, 2006).

The Department also initiated separate administrative reviews for the following companies with the same name but different addresses: 1) Apex Exports; 2) Choice Trading Corporation Pvt. Ltd.; 3) IFB Agro Industries Limited; 4) Kings Marine Products; 5) K V Marine Exports; 6) Navayuga Exports Ltd.; 7) Sai Marine Exports Pvt. Ltd.; and 8) Selvam Exports Private Limited. Specifically, these are companies for which we initiated multiple administrative reviews because the petitioner and/or the respondent listed separate addresses for the same companies in their review requests. See Notice of Initiation, 73 FR at 18757-18762. The Department sent out letters asking for clarification of the multiple addresses and same company names. We received responses from the companies verifying the correct address and that the company is the same. Therefore, we are rescinding the review with respect to these duplicate company addresses.

Finally, in the Notice of Initiation, the Department mistakenly included Royal Cold Storage India P Ltd. in the list of companies for which the review was initiated, in addition to the list of companies for which the review was not initiated. See Notice of Initiation, 73 FR at 18760, 18765. We are clarifying that the Department has not initiated an administrative review with respect to Royal Cold Storage India P Ltd. Id., 73 FR at 18765.

On October 23, 2008, the Department received comments from 32 U.S. producers regarding the Department's Intent to Rescind Memorandum. In these comments, the U.S. producers objected to the petitioner's July 7, 2008, filing withdrawing its request for administrative reviews for certain Indian producers/exporters because: 1) these domestic producers, three of which were previously part of the Ad Hoc Shrimp Trade Action Committee, have retained their own counsel; and 2) as a result, the Ad Hoc Shrimp Trade Action Committee no longer represents the majority of the U.S. domestic industry. Thus, the U.S. producers requested that the Department not rescind the administrative reviews for the companies for which the petitioner withdrew its request. On October 30, 2008, the petitioner responded to the U.S. producers' comments by stating that all of its actions in the review were taken on behalf of the Ad Hoc Shrimp Trade Action Committee as a corporate entity, not on behalf of the individual members. Thus, it urged the Department to disregard the U.S. producers' request.

After considering the U.S. producers' October 23, 2008 submission, we disagree with the arguments made by these companies. The request for administrative review at issue was made by the Ad Hoc Shrimp Trade Action Committee, which is an interested party to this proceeding under section 771(9)(E) of the Tariff Act of 1930, as amended (the Act) (i.e., the subsection applicable to trade associations). Contrary to the U.S. producers' assertions, this section of the Act does not require a trade association to represent a majority of the industry producing the domestic like product, but rather it merely requires a majority of the association's members to manufacture, produce, or wholesale a domestic like product in the United States. Further, 19 CFR 351.213(b)(1) does not require that a domestic interested party represent the majority of the domestic industry before it may request a review. In this case, both the administrative review requests and the corresponding withdrawal of certain of these requests were made on behalf of the Ad Hoc Shrimp Trade Action Committee, not the individual members of this group. Consequently, because the U.S. producers involved in the October 23, 2008, filing did not request any administrative reviews in this segment of the proceeding, we find that their objection to the petitioner's withdrawal of its request for administrative reviews of certain Indian producers/exporters does not provide a basis for the Department to maintain the review request for these companies.

Assessment

The Department intends to issue assessment instructions to CBP 15 days after the date of publication of this partial rescission of administrative review. The Department will direct CBP to assess antidumping duties at the cash deposit rate in effect on the date of entry for POR entries of the subject merchandise produced/exported by the companies for which we are rescinding the review based on the timely withdrawal of review requests.

With respect to POR entries of subject merchandise produced by companies for which we are rescinding the review based on certifications of no shipments, because these companies certified that they made no POR shipments of subject merchandise for which they had knowledge of U.S. destination, we will instruct CBP to liquidate these entries at the all-others rate established in the less-than-fair-value investigation if there is no rate for the intermediary (e.g., a reseller, trading company, or exporter) involved in the transaction. See Antidumping and Countervailing Duty Proceedings: Assessment of Antidumping Duties, 68 FR 23954 (May 6, 2003).

Notification to Importers

This notice serves as a reminder to importers for whom this review is being rescinded, of their responsibility under 19 CFR 351.402(f) to file a certificate regarding reimbursement of antidumping duties prior to liquidation of the relevant entries during this review period. Failure to comply with this requirement could result in the Secretary's presumption that reimbursement of antidumping duties occurred and the subsequent assessment of double antidumping duties.

This notice is published in accordance with section 777(i) of the Act and 19 CFR 351.213(d)(4).

Dated: December 12, 2008.
Stephen J. Claeys,
Deputy Assistant Secretary for Antidumping and Countervailing Duty Operations.

[FR Doc. E8-30269 Filed 12-18-08; 8:45 am]

Billing Code: 3510-DS-S